DEPARTMENT OF ENERGY

Federal Energy Regulatory Commission

[Docket No. PF13-3-000]

Elba Liquefaction Company, L.L.C., Southern LNG Company, L.L.C., Elba Express Company, L.L.C.; Notice of Intent To Prepare an Environmental Assessment for the Planned Elba Liquefaction Project, Request for Comments on Environmental Issues, and Notice of Public Scoping Meetings

The staff of the Federal Energy Regulatory Commission (FERC or Commission) will prepare an environmental assessment (EA) that will discuss the environmental impacts of the Elba Liquefaction Project and EEC Modification Project (collectively referred to as the Elba Liquefaction Project) involving construction and operation of facilities in Georgia by Elba Liquefaction Company, LLC (ELC); Southern LNG Company, LLC (SLNG); and Elba Express Company, LLC (EEC, collectively referred to as “Companies”). The Commission will use this EA in its decision-making process to determine whether the project is in the public interest.

This notice announces the opening of the scoping process the Commission will use to gather input from the public and interested agencies on the project. Your input during the scoping process will help the Commission staff determine what issues need to be evaluated in the EA. Please note that the scoping period will close on May 22, 2013.

You may submit comments in written form or verbally. Further details on how to submit written comments are provided in the Public Participation section of this notice. In lieu of or in addition to sending written comments, the Commission invites you to attend the public scoping meetings listed below.

Date and time | Location
Tuesday, May 7, 2013 7:00 pm EDT | Hart County Library, 150 Benson St., Hartwell, Georgia.
Thursday, May 9, 2013 7:00 pm EDT | The Chatham County, Savannah Metropolitan Planning Commission, 112 East State St., Savannah, GA.

This notice is being sent to the Commission's current environmental mailing list for the project. State and local government officials are asked to notify their constituents of this planned project and encourage them to comment on their areas of concern.

If you are a landowner receiving this notice, a company representative may contact you about the acquisition of an easement to construct, operate, and maintain the planned facilities. The company would seek to negotiate a mutually acceptable agreement. However, if the Commission approves the project, that approval conveys with it the right of eminent domain. Therefore, if easement negotiations fail to produce an agreement, the Companies could initiate condemnation proceedings where compensation would be determined in accordance with state law.

A fact sheet prepared by the FERC entitled “An Interstate Natural Gas Facility on My Land? What Do I Need To Know?” is available for viewing on the FERC Internet Web site (www.ferc.gov). This fact sheet addresses a number of typically asked questions, including the use of eminent domain and how to participate in the Commission's proceedings.

Involvement of the U.S. Department of Energy

The FERC is the lead federal agency preparing the EA to satisfy the requirements of the National Environmental Policy Act (NEPA). The U.S. Department of Energy, Office of Fossil Energy (DOE) has agreed to participate as a cooperating agency in the preparation of the EA to satisfy its NEPA responsibilities.

Under section 3 of the Natural Gas Act of 1938, as amended (NGA), 15 USC 717b, DOE would authorize the export of natural gas, including liquefied natural gas (LNG), to countries with which the United States has not entered into a free trade agreement providing for national treatment for trade in natural gas, unless it finds that the proposed export will not be consistent with the public interest. For the Elba Liquefaction Project, the purpose and need for DOE action is to respond to SLNG's application filed with DOE on August 31, 2012 (FE Docket No. 12-100-LNG), seeking authorization to export up to 4 million tons per annum (equivalent to 0.5 billion cubic feet per day) of domestic natural gas as LNG for a 20-year period from its Elba Island Terminal near Savannah, Georgia, commencing the earlier of the date of first export or ten years from the date that the requested authorization is issued. DOE authorization of Southern LNG's application would allow the export of LNG to any country: (1) With which the United States does not have a free trade agreement requiring the national treatment for trade in natural gas; (2) that has, or in the future develops, the capacity to import LNG; and (3) with which trade is not prohibited by U.S. law or policy.

Summary of the Planned Project

ELC and SLNG are planning to construct natural gas liquefaction facilities to support the production and export of up to 350 million cubic feet of LNG per day (2.5 million tons per year) at the existing Elba LNG Terminal, in Chatham County, near Savannah, Georgia. The activities planned at the Elba Island Terminal include the installation of up to ten Movable Modular Liquefaction System units, a flare system, modifications to the terminal piping, modification and construction of various buildings, and truck transport of natural gas liquids. In addition, modifications to the non-jurisdictional electrical distribution facilities would be required to support the liquefaction facilities.

To facilitate the supply of natural gas to the Elba LNG Terminal for liquefaction, EEC is proposing to add compression along its existing Elba Express Pipeline in Georgia. These facilities would include the addition of up to 16,000 horsepower of compression at the existing Hartwell Compressor Station in Hart County, Georgia and the construction of a new 11,000-horsepower compressor station and about 1,000 feet of interconnecting pipeline in Jefferson County, Georgia.

A map depicting the general location of the project facilities is included in appendix 2.¹

¹ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements for Construction

Construction of the facilities associated with the Elba Liquefaction Project would occur primarily within the existing Elba Island LNG Terminal footprint located on the 860-acre Elba Island. The Companies may seek off-site areas for staging, warehouse yards, contractor offices, and parking, and would attempt to site those in areas that have been previously used for such activities.

EEC would require about 24.8 acres of land for the new Jefferson County Compressor Station, and it would install the additional compression at the Hartwell Compressor Station within the 8.8 acre existing facility footprint.

The EA Process

The NEPA requires the Commission to take into account the environmental impacts that could result from an action whenever it considers the issuance of a Certificate of Public Convenience and Necessity under section 7 of the NGA or grants authorization for the LNG facilities under section 3 of the NGA. NEPA also requires us ² to discover and address concerns the public may have about proposals. This process is referred to as scoping. The main goal of the scoping process is to focus the analysis in the EA on the important environmental issues. By this notice, the Commission requests public comments on the scope of the issues to address in the EA. We will consider all filed comments during the preparation of the EA.

² “Us,” “we,” and “our” refer to the environmental staff of the Commission's Office of Energy Projects.

In the EA we will discuss impacts that could occur as a result of the construction and operation of the planned project under these general headings:

• geology and soils;

• water resources, fisheries, and wetlands;

• vegetation, wildlife, and endangered and threatened species;

• socioeconomics;

• cultural resources;

• land use;

• cumulative impacts;

• air quality and noise; and

• public safety.

We will also evaluate reasonable alternatives to the planned project or portions of the project and make recommendations on how to lessen or avoid impacts on the various resource areas.

Although no formal application has been filed, we have already initiated our NEPA review under the Commission's pre-filing process. The purpose of the pre-filing process is to encourage early involvement of interested stakeholders and to identify and resolve issues before the FERC receives an application. As part of our pre-filing review, we have begun to contact federal and state agencies to discuss their involvement in the scoping process and the preparation of the EA.

The EA will present our independent analysis of these issues. The EA will be available in the public record through eLibrary. Depending on the comments received during the scoping process, we may also publish and distribute the EA to the public for an allotted comment period. We will consider all comments on the EA before we make our recommendations to the Commission. To ensure we have the opportunity to consider and address your comments, please carefully follow the instructions in the Public Participation section beginning on page 5.

With this notice, we are asking agencies with jurisdiction and/or special expertise with respect to environmental issues to formally cooperate with us in the preparation of the EA.³ Agencies that would like to request cooperating agency status should follow the instructions for filing comments provided under the Public Participation section of this notice. Currently, the DOE, the U.S. Department of Transportation, and the U.S. Coast Guard are participating as cooperating agencies in the preparation of the EA.

³ The Council on Environmental Quality regulations addressing cooperating agency responsibilities are at Title 40, Code of Federal Regulations, Part 1501.6.

Consultations Under Section 106 of the National Historic Preservation Act

In accordance with the Advisory Council on Historic Preservation's implementing regulations for section 106 of the National Historic Preservation Act, we are using this notice to initiate consultation with the Georgia State Historic Preservation Office (SHPO), and to solicit their views and those of other government agencies, interested Indian tribes, and the public on the project's potential effects on historic properties.⁴ We will define the project-specific Area of Potential Effects in consultation with the SHPO as the project develops. On natural gas facility projects, the Area of Potential Effects at a minimum encompasses all areas subject to ground disturbance (examples include construction right-of-way, contractor/pipe storage yards, compressor stations, and access roads). Our EA for the project will document our findings on the impacts on historic properties and summarize the status of consultations under section 106.

⁴ The Advisory Council on Historic Preservation's regulations are at Title 36 of the Code of Federal Regulations, Part 800. Historic properties are defined in those regulations as any prehistoric or historic district, site, building, structure, or object included in or eligible for inclusion in the National Register for Historic Places.

Currently Identified Environmental Issues

We have already identified several issues that we think deserve attention based on a preliminary review of the planned facilities, the environmental information provided by the Companies, and comments received by the public. This preliminary list of issues may be changed based on your comments and our analysis:

• construction and operational impacts on nearby residences in proximity to the existing and proposed compressor stations;

• impacts on forested land at the Jefferson County Compressor Station;

• impacts on air quality and noise from the new Jefferson County Compressor Station and the upgrades at the existing Hartwell Compressor Station; and

• impacts on aquatic species, including threatened and endangered species due to ballast water discharges at Elba Island.

Public Participation

You can make a difference by providing us with your specific comments or concerns about the project. Your comments should focus on the potential environmental effects, reasonable alternatives, and measures to avoid or lessen environmental impacts. The more specific your comments, the more useful they will be. To ensure that your comments are timely and properly recorded, please send your comments so that the Commission receives them in Washington, DC on or before May 22, 2013. This is not your only public input opportunity; please refer to the Environmental Review Process flow chart in appendix 2.

For your convenience, there are three methods you can use to submit your comments to the Commission. In all instances, please reference the project docket number (PF13-3-000) with your submission. The Commission encourages electronic filing of comments and has expert staff available to assist you at (202) 502-8258 or efiling@ferc.gov.

1. You can file your comments electronically by using the eComment feature located on the Commission's Web site (www.ferc.gov) under the link to Documents and Filings. This is an easy method for interested persons to submit brief, text-only comments on a project;

2. You can file your comments electronically by using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

3. You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Indian tribes; other interested parties; and local libraries and newspapers. This list also includes all affected landowners (as defined in the Commission's regulations) who are potential right-of-way grantors, whose property may be used temporarily for project purposes, or who own homes within certain distances of aboveground facilities, and anyone who submits comments on the project. We will update the environmental mailing list as the analysis proceeds to ensure that we send the information related to this environmental review to all individuals, organizations, and government entities interested in and/or potentially affected by the planned project.

If we publish and distribute the EA, copies will be sent to the environmental mailing list for public review and comment. If you would prefer to receive a paper copy of the document instead of the CD version, or would like to remove your name from the mailing list, please return the attached Information Request (appendix 3).

Becoming an Intervenor

Once the Companies file their applications with the Commission, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are included in the User's Guide under the “e-Filing” link on the Commission's Web site. Please note that the Commission will not accept requests for intervenor status at this time. You must wait until the Commission receives formal applications for the project.

Additional Information

Additional information about the project is available from the Commission's Office of External Affairs, at (866) 208-FERC, or on the FERC Web site (www.ferc.gov) using the eLibrary link. Click on the eLibrary link, click on “General Search” and enter the docket number, excluding the last three digits in the Docket Number field (i.e., PF13-3). Be sure you have selected an appropriate date range. For assistance, please contact FERC Online Support at FercOnlineSupport@ferc.gov or toll free at (866) 208-3676, or for TTY, contact (202) 502-8659. The eLibrary link also provides access to the text of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/esubscribenow.htm.

Public meetings or site visits will be posted on the Commission's calendar located at www.ferc.gov/EventCalendar/EventsList.aspx along with other related information.

Finally, the Companies have established a Web site for this project at http://www.kindermorgan.com/business/gas_pipelines/projects/elbaLNG/. The Web site includes a project overview, environmental information, and information for affected stakeholders.

Dated: April 22, 2013.
Kimberly D. Bose,
Secretary.

[FR Doc. 2013-09987 Filed 4-26-13; 8:45 am]

BILLING CODE 6717-01-P